DEPARTMENT OF COMMERCE

Economic Development Administration

Notice of Petitions by Firms for Determination of Eligibility To Apply for Trade Adjustment Assistance

AGENCY: Economic Development Administration, Department of Commerce.

ACTION: Notice and opportunity for public comment.

Pursuant to Section 251 of the Trade Act 1974, as amended (19 U.S.C. 2341 et seq.), the Economic Development Administration (EDA) has received petitions for certification of eligibility to apply for Trade Adjustment Assistance from the firms listed below. Accordingly, EDA has initiated investigations to determine whether increased imports into the United States of articles like or directly competitive with those produced by each of these firms contributed importantly to the total or partial separation of the firm's workers, or threat thereof, and to a decrease in sales or production of each petitioning firm.

List of Petitions Received by EDA for Certification Eligibility To Apply for Trade Adjustment Assistance
[5/10/2013 through 5/22/2013]
Firm name | Firm address | Date accepted for investigation | Product(s)
Infinite Enterprises, LLC | 46692 Basargin Road, Homer, AK 99603 | 5/16/2013 | The firm provides cod, salmon, halibut and sablefish fresh and chilled.
Worzalla Publishing Company | 3585 Jefferson Street, Stevens Point, WI 54481 | 5/15/2013 | The firm manufactures books for the children and religious book industry's.
Performance Stamping Co. Inc | 20 Lake Marian Road, Carpentersville, IL 60110 | 5/17/2013 | Firm designs and manufacturers small and medium sized custom progressive die stampings, custom deep draw stampings, compound and blanking die stampings.
J&L Dimensional Services, Inc | 16 Industrial Parkway, LaPorte, IN 46350 | 5/17/2013 | Firm is a finisher of turbine investment castings and provider of layout inspection and fluorescent penetrant inspection services.
Sunset Stone, Inc | 702 Prairie Hawk Drive, Castle Rock, CO 80109 | 5/17/2013 | Firm manufactures artificial stone and stone veneer products.
Peet Shoe Dryer, Inc. (dba Peet Dryer) | 919 St. Maries River Road, St. Maries, ID 83861 | 5/20/2013 | Firm manufacturers electric shoe footwear dryers.
Weidenmiller Company | 1464 Industrial Drive, Itasca, IL 60143 | 5/20/2013 | Firm is a food product machinery manufacturer for rotary molder die rolls and rotary cutter die rolls.

Any party having a substantial interest in these proceedings may request a public hearing on the matter. A written request for a hearing must be submitted to the Trade Adjustment Assistance for Firms Division, Room 71030, Economic Development Administration, U.S. Department of Commerce, Washington, DC 20230, no later than ten (10) calendar days following publication of this notice.

Please follow the requirements set forth in EDA's regulations at 13 CFR 315.9 for procedures to request a public hearing. The Catalog of Federal Domestic Assistance official number and title for the program under which these petitions are submitted is 11.313, Trade Adjustment Assistance for Firms.

Dated: May 22, 2013.
Michael DeVillo,
Eligibility Examiner.

[FR Doc. 2013-12770 Filed 5-29-13; 8:45 am]

BILLING CODE 3510-WH-P